DEPARTMENT OF HOMELAND SECURITY

Office of the Secretary

Senior Executive Service Performance Review Board

AGENCY: Office of the Secretary, DHS.

ACTION: Notice correction.

SUMMARY: This notice announces the appointment of the members of the Senior Executive Service Performance Review Boards for the Department of Homeland Security. The purpose of the Performance Review Board is to view and make recommendations concerning proposed performance appraisals, ratings, bonuses, pay adjustments, and other appropriate personnel actions for incumbents of Senior Executive Service, Senior Level and Senior Professional positions of the Department.

DATES: Effective Dates: This Notice is effective October 3, 2012.

FOR FURTHER INFORMATION CONTACT: Elizabeth Haefeli, Office of the Chief Human Capital Officer, telephone (202) 357-8164.

SUPPLEMENTARY INFORMATION: Each federal agency is required to establish one or more performance review boards (PRB) to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Acton, John

Alexander, Barbara

Amparo, Alexis

Anderson, Audrey J.

Anderson, Gary L.

Anderson, Rose J.

Andrews, John

Armstrong, Charles R.

Athmann, Ronald

Barber, Delores

Baroukh, Nader

Barrett, Lawerence

Bartoldus, Charles

Bathurst, Donald

Bauhs, Kimberlyn J.

Beagles, James

Beckham, Steward D.

Bedker, Larry

Benda, Francis Paul

Bernstein, Jarrod

Bersin, Alan

Bester, Margot

Borkowski, Mark S.

Borras, Rafael

Boshears, Kevin

Bourbeau, Sharie

Boyce, Carla J.

Boyce, Don R.

Boyd, David

Bray, Robert S.

Brinsfield, Kathryn

Brooks, Vicki

Brown, Meddie

Brown, Michael

Brundage, William

Brzymialkiewicz, Caryl

Bucella, Donna A.

Bucher, Steven P.

Buckingham, Patricia A.

Burke, Richard

Butcher, Michael

Button, Christopher

Byrne, Michael F.

Byrne, Sean J.

Cahill, Donna L.

Callahan, Colleen B.

Cameron, Michael K.

Canton, Lynn G.

Cantor, Jonathan

Carpenter, Dea D.

Carson, Rebecca S.

Carter, Gary

Carusone, Pia

Carwile III, William L.

Castro, Raul

Chaleki, Thomas

Chaparro, James

Chavez, Richard

Chuang, Theodore D.

Clever, Daniel

Coffman, Katherine M.

Cogswell, Patricia

Cohn, Alan

Coleman, Corey J.

Connor, Edward L.

Correa, Soraya

Cotter, Daniel

Covell, Cynthia

Cox, Adam

Crumpacker, Jim

Cummiskey, Chris

Daitch, William

Davis, Delia P.

Dawson, Molly

Dayton, Mark

de Vallance, Brian

Delaney, David G.

DiFalco, Frank

Dinkins, James A.

Dolan, Mark E.

Dorko, Jeffrey J.

Duong, Anh

Durham, Debra

Edge, Peter T.

Edwards, Eric L.

Elias, Richard K.

Emerson, Catherine

Ennis, Eileen

Epstein, Gerald

Eskridge, Gloria

Etzel, Jean A.

Fagerholm, Eric N.

Falk, Scott K.

Farley, Evan T.

Farmer, Robert A.

Fenton, Robert J.

Finegan, Robin A.

Fisher, Michael J.

Flinn, Shawn

Fox, Kathleen M.

Freeman, Beth A.

Frey, Gregory

Gabbrielli, Tina

Gaines, Glenn A.

Gammon, Carla

Garza, Alexander

Gelfer, Elizabeth

Gerstein, David

Gina, Allen

Gowadia, Huban

Grade, Deborah C.

Gramlick, Carl

Graves, Margaret

Griffin, Edward

Grimm, Michael

Gross-Davis, Leslie

Grossman, Seth S.

Gruber, Corey D.

Halinski, John W.

Hall, Christopher J.

Hall, Michael J.

Hardiman, Tara

Havranek, John F.

Heller, Susan J.

Heyman, David

Hill, Alice

Hill, Keith O.

Hill, Mark

Hochman, Kathleen T.

Hoggan, Kelly C.

Holterman, Keith

Houser, Eric

Hylton, Roberto L.

Ileto, Carlene

Ingram, Deborah

Jensen, Robert

Johnson, Daniel

Johnson, Edward H.

Johnson, James

Jones Jr., Berl D.

Jones, Franklin C.

Jones, Keith A.

Jones, Rendell L.

Joseph, Leonard

Kamoie, Brian

Karoly, Stephen

Kauffman, Keith

Kaufman, David J.

Keene, D. Kenneth

Kerner, Francine

Kessler, Tamara

Kielsmeier, Lauren

Kieserman, Brad J.

Kish, James R.

Kopel, Richard

Kostelnik, Michael C.

Koumans, Marnix

Krizay, Glenn

Kroloff, Noah

Kronisch, Matthew L.

Kruger, Mary

Kubiak, Lev J.

Langlois, Joseph E.

Lederer, Calvin M.

Legomsky, Stephen H.

Lew, Kimberly

Lewis, Ashley

Livingston, Kevin S.

Luczko, George P.

Ludtke, Meghan G.

Lumpkins, Donald M.

Lute, Jane Holl

Mabeus, Steve

Maher, Joseph B.

Marcott, Stacey

Markey, Elizabeth

Marshall, Gregory A.

Martoccia, Anthony R.

May, Major P.

McAleenan, Kevin K.

McAllister, Scott

McClain, Ellen

McDonald, Christina E.

McGruder, Richard

McLaughlin, Christopher L.

McLaughlin, Daniel

McNamara, Jason R.

McNamara, Philip

Merritt, Marianna L.

Merritt, Michael P.

Meyer, Jonathan E.

Micone, Vincent

Miller, David L.

Mitchell, Andrew

Monastsero, Benjamin

Monica, Donald J.

Montgomery, Cynthia R.

Moore, Joseph D.

Morrissey, Paul S.

Moynihan, Timothy M.

Murphy, Kenneth D.

Myers, David L.

Myers, Raymond

Napolitano, Janet

Nayak, Nick

Nelson, Mickey M.

Neptun, Daniel A.

Neufeld, Donald W.

Nicholson, David

Nosanchuk, Mathew S.

Novak, Michael R.

O'Connell, Maria Luisa

O'Connor, David J.

O'Connor, Kimberly

Olavarria, Esther

Oliver, Clifford E.

Onieal, Denis G.

Orner, Jeffery

O'Toole, Tara

Palmer, David J.

Parent, Wayne

Paschall, Robert D.

Patel, Nimesh

Patrick, Connie L.

Peacock, Nelson

Pelowski, Gregg

Penn, Damon C.

Philbin, Patrick

Phillips, Sally

Pierson, Julia A.

Pohlman, Teresa

Polk, James

Potts, Michael

Pressman, David

Quijas, Louis

Ragsdale, Daniel H.

Ramanathan, Sue

Ratliff, Gerri L.

Rausch, Sharla

Robles, Alfonso

Roche, William W.

Rogers, Debra

Roy, Donna

Russell, Anthony A.

Russell, Michael

Rynes, Joel

Salazar, Ronald

Sampson, Timothy

Sandweg, John

Saunders, Steve D.

Savastana, Anthony J.

Schied, Eugene H.

Schreiber, Tonya

Scialabba, Lori L.

Sekar, Radha C.

Sevier, Adrian

Shelton Waters, Karen R.

Sherry, Peggy

Shlossman, Amy

Singleton, Kathy

Smiley, Dennis

Smislova, Melissa

Smith, A.T.

Smith, Douglas

Smith, Eric T.

Smith, Gordon

Smith, Jessica A.

Snow, Avie

Spampinato Jr., Francis C.

Spires, Richard

Stallworth, Charles E.

Stanley, Kathleen M.

Stanton, John R.

Stewart, Sharon

Strack, Barbara L.

Stroud, Dennis Michael

Sullivan, Mark

Swain, Donald

Tanner, George

Tarry, William

Tate, Cornelius F.

Taylor, Charles

Teets, Gregory L.

Terry, Anne

Thomas, Rob C.

Tierney, MaryAnn E.

Tomchek, Debra

Tomsheck, James F.

Torrence, Donald

Triner, Donald

Trippie, Keith

Trissell, David A.

Tuttle, James

Velarde, Barbara Q.

Velasquez III, Andrew

Venture, Veronica

Veysey, Anne

Vincent, Peter S.

Wagner, Caryn

Walke, James A.

Walther, Kelli

Walton, Kimberly H.

Ward, Nancy L.

Warrick, Thomas

Williams, Dwight M.

Williams, Gerard J.

Williams, Richard

Winchell, Leigh

Winkowski, Thomas S.

Wisniewski, Leo

Wong, Heather

Woodard, Steven C.

Yeager, Michael J.

Zabko, John

Zeller, Randel

Zimmerman, Elizabeth A.

This notice does not constitute a significant regulatory action under section 3(f) of Executive Order 12866. Therefore, DHS has not submitted this notice to the Office of Management and Budget. Further, because this notice is a matter of agency organization, procedure and practice, DHS is not required to follow the rulemaking requirements under the Administrative Procedure Act (5 U.S.C. 553).

Dated: September 28, 2012.
Shonna R. James,
Director, Executive Resources, Office of the Chief Human Capital Officer.

[FR Doc. 2012-24387 Filed 10-2-12; 8:45 am]

BILLING CODE 9110-9B-P